ENVIRONMENTAL PROTECTION AGENCY

40 CFR Part 52

[IN98-1b, IN125-1b; FRL-6854-5]

Approval and Promulgation of Implementation Plans; Indiana Source-Specific Revisions

AGENCY: Environmental Protection Agency (EPA).

ACTION: Proposed rule.

SUMMARY: EPA is proposing to approve revisions to limitations for two facilities in Lake County, Indiana. These limitations concern particulate matter from Lever Brothers facility and both particulate matter and sulfur dioxide from NIPSCo's Dean Mitchell Station. Indiana requested these revisions on February 3, 1999, and December 28, 1999, respectively.

In separate action in today's Federal Register, EPA is approving the submittals as a direct final rule without prior proposal, because the EPA views this as a noncontroversial action and anticipates no adverse comments. A detailed rationale for this action is set forth in the direct final rule.

If EPA receives no adverse written comments in response to these actions, we contemplate no further activity in relation to this proposed rule. If we receive adverse written comments, we will withdraw the direct final rule and will address all public comments in a subsequent final rule based on this proposed rule. Any parties interested in commenting on this action should do so at this time.

DATES: EPA must receive comments by September 28, 2000.

ADDRESSES: Mail written comments to: J. Elmer Bortzer, Chief, Regulation Development Section, Air Programs Branch (AR-18J), United States Environmental Protection Agency, 77 West Jackson Boulevard, Chicago, Illinois 60604.

A copy of the State submittal is available for inspection at: Regulation Development Section, Air Programs Branch (AR-18J), United States Environmental Protection Agency, Region 5, 77 West Jackson Boulevard, Chicago, Illinois 60604.

FOR FURTHER INFORMATION CONTACT: John Summerhays, at (312) 886-6067.

SUPPLEMENTARY INFORMATION: For additional information see the direct final rule published in the rules section of this Federal Register.

Authority: 42 U.S.C. 7401-7671q.

Dated: August 4, 2000.
Francis X. Lyons,
Regional Administrator, Region 5.

[FR Doc. 00-21912 Filed 8-28-00; 8:45 am]

BILLING CODE 6560-50-P